SMALL BUSINESS ADMINISTRATION

[Declaration of Economic Injury Disaster #9W54]

State of Michigan

Marquette County and the contiguous counties of Alger, Baraga, Delta, Dickinson, Iron and Menominee in the State of Michigan constitute an economic injury disaster loan area as a result of heavy rainfall and flooding which occurred May 10 through 26, 2003. The heavy rainfall and flooding caused severe economic injury to dozens of small businesses in the City of Marquette and Marquette County. Eligible small businesses and small agricultural cooperatives without credit available elsewhere may file applications for economic injury assistance as a result of this disaster until the close of business on April 29, 2004 at the address listed below or other locally announced locations:

Small Business Administration, Disaster Area 2 Office, One Baltimore Place, Suite 300, Atlanta, GA 30308.

The interest rate for eligible small businesses and small agricultural cooperatives is 2.953 percent.

The number assigned for economic injury for the State of Michigan is 9W5400.

(Catalog of Federal Domestic Assistance Program No. 59002)
Dated: July 29, 2003.
Hector V. Barreto,
Administrator.

[FR Doc. 03-19736 Filed 8-1-03; 8:45 am]

BILLING CODE 8025-01-P